NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 30, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

APPLICATION DETAILS:

Permit Application: 2017-032.

Applicant: James Droney, Vice President, Itinerary and Destination Planning, The World of Residense II, Ltd., 1551 Sawgrass Corporate Parkway, Suite 200, Fort Lauderdale, FL 33323.

Activity for Which Permit is Requested: Enter Antarctic Specially Protected Area. The applicant proposes to enter Antarctic Specially Protected Area (ASPA) No. 155, Cape Evans, Ross Island; ASPA No. 157 Backdoor Bay, Cape Royds, Ross Island; ASPA No. 158, Hut Point, Ross Island; and ASPA No. 159, Cape Adare, Borchgrevink Coast in order to visit the Historic Sites and Monuments from the Heroic Age of Antarctic exploration located within the ASPAs. The applicant is planning a voyage to the Ross Sea region aboard M/V THE WORLD and will offer visits to the ASPAs listed above as shore excursions. Experienced expedition staff will supervise groups of no more than 40 people at any time in the ASPAs. The visits will be conducted according to the ASPA management plans and codes of conduct. No more than eight people at a time will enter the huts at Cape Evans, Cape Royds, and Hut Point; no more than four people at a time will enter Borchgrevink's hut at Cape Adare. No food products will be taken into the ASPAs. Care will be taken to avoid damage to historic artifacts and to avoid disturbance of any wildlife in the ASPAs. Entry into ASPAs will be on foot. When visiting ASPA 157, entry into the terrestrial and marine areas of ASPA 121 will be avoided.

Location: ASPA No. 155, Cape Evans, Ross Island; ASPA No. 157 Backdoor Bay, Cape Royds, Ross Island; ASPA No. 158, Hut Point, Ross Island; and ASPA No. 159, Cape Adare, Borchgrevink Coast.

Dates: January 20-31, 2017.

Nadene G. Kennedy,
Polar Coordination Specialist, Division of Polar Programs.

[FR Doc. 2016-28753 Filed 11-29-16; 8:45 am]

BILLING CODE 7555-01-P